DEPARTMENT OF ENERGY

Federal Energy Regulatory Commission

Notice of Effectiveness of Exempt Wholesale Generator Status

| Docket Nos.
Panda Hummel Station LLC | EG18-14-000
Wildwood Lessee, LLC | EG18-15-000
Red Dirt Wind Project, LLC | EG18-16-000
ORNI 39 LLC | EG18-17-000
ORNI 41 LLC | EG18-18-000
Hamakua Energy, LLC | EG18-19-000

Take notice that during the month of January 2018, the status of the above-captioned entities as Exempt Wholesale Generators became effective by operation of the Commission's regulations. 18 CFR 366.7(a) (2017).

Dated: February 14, 2018.
Nathaniel J. Davis, Sr.,
Deputy Secretary.

[FR Doc. 2018-03506 Filed 2-20-18; 8:45 am]

BILLING CODE 6717-01-P